SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: November 1-30, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f)(13) and 18 CFR 806.22(f) for the time period specified above:

Water Source Approval—Issued Under 18 CFR 806.22(f)

1. Cabot Oil & Gas Corporation; Pad ID: Teel P1; ABR-20090541.R2; Springville Township, Susquehanna County, Pa.; Consumptive Use of Up to 3.5750 mgd; Approval Date: November 12, 2019.

2. Cabot Oil & Gas Corporation; Pad ID: Teel P5; ABR-20090542.R2; Springville Township, Susquehanna County, Pa.; Consumptive Use of Up to 3.5750 mgd; Approval Date: November 12, 2019.

3. Cabot Oil & Gas Corporation; Pad ID: Teel P6; ABR-20090543.R2; Springville Township, Susquehanna County, Pa.; Consumptive Use of Up to 3.5750 mgd; Approval Date: November 12, 2019.

4. Cabot Oil & Gas Corporation; Pad ID: Ely P1; ABR-20090546.R2; Dimock Township, Susquehanna County, Pa.; Consumptive Use of Up to 3.5750 mgd; Approval Date: November 12, 2019.

5. Cabot Oil & Gas Corporation; Pad ID: ButlerL P1; ABR-201405010.R1; Lathrop Township, Susquehanna County, Pa.; Consumptive Use of Up to 5.0000 mgd; Approval Date: November 12, 2019.

6. Chief Oil & Gas, LLC; Pad ID: SGL-12 B Drilling Pad; ABR-201410005.R1; Overton Township, Bradford County, Pa.; Consumptive Use of Up to 2.5000 mgd; Approval Date: November 12, 2019.

7. Chesapeake Appalachia, L.L.C.; Pad ID: Jayne; ABR-20091021.R2; Auburn Township, Susquehanna County, Pa.; Consumptive Use of Up to 7.5000 mgd; Approval Date: November 18, 2019.

8. Chesapeake Appalachia, L.L.C.; Pad ID: Roundwood; ABR-201410001.R1; Braintrim Township, Wyoming County, Pa.; Consumptive Use of Up to 7.5000 mgd; Approval Date: November 18, 2019.

9. Chesapeake Appalachia, L.L.C.; Pad ID: James Smith; ABR-20091020.R2; Terry Township, Bradford County, Pa.; Consumptive Use of Up to 7.5000 mgd; Approval Date: November 21, 2019.

10. Chesapeake Appalachia, L.L.C.; Pad ID: Gowan; ABR-20091001.R2; Terry Township, Bradford County, Pa.; Consumptive Use of Up to 7.5000 mgd; Approval Date: November 25, 2019.

11. Chesapeake Appalachia, L.L.C.; Pad ID: Harry; ABR-20091017.R2; West Burlington Township, Bradford County, Pa.; Consumptive Use of Up to 7.5000 mgd; Approval Date: November 25, 2019.

12. Seneca Resources Company, LLC; Pad ID: DCNR 595 Pad D; ABR-20090827.R2; Bloss Township, Tioga County, Pa.; Consumptive Use of Up to 1.0001 mgd; Approval Date: November 25, 2019.

Authority: Pub. L. 91-575, 84 Stat. 1509 et seq., 18 CFR parts 806, 807, and 808.

Dated: December 10, 2019.
Jason E. Oyler,
General Counsel and Secretary to the Commission.

[FR Doc. 2019-26930 Filed 12-12-19; 8:45 am]

BILLING CODE 7040-01-P